FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than March 26, 2021.

A. Federal Reserve Bank of St. Louis (David L. Hubbard, Senior Manager) P.O. Box 442, St. Louis, Missouri 63166-2034. Comments can also be sent electronically to Comments.applications@stls.frb.org:

1. Travis Brown; the Angela J. McLane Revocable Trust; Angela J. McLane, individually and as trustee of the Angela J. McLane Revocable Trust; and David Rowland, all of Poplar Bluff, Missouri; to become members of the McLane Family Control Group, a group acting concert, by retaining voting shares of Midwest Bancorporation, Inc., Poplar Bluff, Missouri, and thereby retaining voting shares of First Midwest Bank of Dexter, Dexter, Missouri, First Midwest Bank of Poplar Bluff, Poplar Bluff, Missouri, and First Midwest Bank of the Ozarks, Piedmont, Missouri.

B. Federal Reserve Bank of Minneapolis (Chris P. Wangen, Assistant Vice President), 90 Hennepin Avenue, Minneapolis, Minnesota 55480-0291:

1. The Nancy B. Miller Trust dated July 1, 2020, and the Win R. Miller Trust dated July 1, 2020, Nancy B. Miller and Win R. Miller as trustees, and the Mary A. Walquist Trust dated June 5, 2020, Mary A. Walquist as trustee, all of Marine on St. Croix, Minnesota, to become members of the Walquist/Miller Family Control Group, a group acting in concert, by acquiring voting shares of Marine Bancshares, Inc., and thereby indirectly acquiring voting shares of Security State Bank of Marine, both of Marine on St. Croix, Minnesota.

2. Jerome M. Bauer and Susanne M. Bauer, both of Durand, Wisconsin; to acquire voting shares of Security Financial Services Corporation, and thereby indirectly acquire voting shares of Security Financial Bank, both of Durand, Wisconsin, and Jackson County Bank, Black River Falls, Wisconsin.

In addition, Jerome M. Bauer, Susanne M. Bauer, Tad M. Bauer, Jodi N. Bauer, Timothy A. Hoffman, Julie M. Hoffman, Janice M. Spindler, and Steven R. Spindler, all of Durand, Wisconsin; the Chad W. and Amanda S. Smith Revocable Grantor Trust, Amanda S. Smith, both of Eau Galle, Washington, individually, and together with Chad W. Smith, as co-trustees, Durand Washington; the James M. and Linda M. Bauer Revocable Grantor Trust, James M. Bauer and Linda M. Bauer, as co-trustees, the John J. and Mary Jane Brantner Revocable Grantor Trust, John J. Brantner and Mary Jane Brantner, as co-trustees, and the Larry J. and Marcia J. Weber Revocable Grantor Trust, Larry J. Weber, as trustee, all of Durand, Wisconsin; as a group acting in concert, to retain voting shares of Security Financial Services Corporation, and thereby indirectly retain voting shares of Security Financial Bank and Jackson County Bank.

Board of Governors of the Federal Reserve System, March 8, 2021.
Michele Taylor Fennell,
Deputy Associate Secretary of the Board.

[FR Doc. 2021-05082 Filed 3-10-21; 8:45 am]

BILLING CODE P